ENVIRONMENTAL PROTECTION AGENCY

40 CFR Part 52

[EPA-R09-OAR-2017-0481; FRL-9992-61—Region 9]

Air Quality State Implementation Plans; Arizona: Approval and Conditional Approval of State Implementation Plan Revisions; Maricopa County Air Quality Department; Stationary Source Permits; Correction

AGENCY: Environmental Protection Agency (EPA).

ACTION: Final rule; correction.

SUMMARY: The Environmental Protection Agency (EPA) issued a final rule on April 5, 2019, entitled “Air Quality State Implementation Plans; Arizona: Approval and Conditional Approval of State Implementation Plan Revisions; Maricopa County Air Quality Department; Stationary Source Permits.” This document makes a minor change to the April 5, 2019, action to correct an error in the regulatory text for the rule.

DATES: Effective: May 6, 2019.

FOR FURTHER INFORMATION CONTACT: Shaheerah Kelly, (415) 947-4156, kelly.shaheerah@epa.gov.

SUPPLEMENTARY INFORMATION:

Background

The EPA issued “Air Quality State Implementation Plans; Arizona: Approval and Conditional Approval of State Implementation Plan Revisions; Maricopa County Air Quality Department; Stationary Source Permits” as a final rule on April 5, 2019 (84 FR 13543). This final rule approved revisions to the MCAQD's portion of the SIP for the State of Arizona. The EPA finalized full approval of Rules 210, 220, 240, and 241, and conditional approval of Rules 100 and 200. The revisions updated the MCAQD's New Source Review permitting program for new and modified sources of air pollution. For more information, please see the EPA's rulemaking action at https://www.regulations.gov under Docket ID No. EPA-R09-OAR-2017-0481, and the Federal Register publications for the proposed rule on June 11, 2018 (83 FR 26912), and the final rule on April 5, 2019 (84 FR 13543).

Need for Correction

As published, the regulatory text in the final rule contains an error that would remove previous SIP approvals in the Code of Federal Regulations that were not intended for deletion in this rulemaking. The EPA finds that there is good cause to make this correction without providing for notice and comment because neither notice nor comment is necessary and would not be in the public interest due to the nature of the correction which is minor, technical and does not change the obligations already existing in the rule. The EPA finds that the corrections are merely restoring the existing provisions of Table 4 that were unchanged by this action so that the provisions of Table 4 may be published correctly in the Code of Federal Regulations.

Correction of Publication

In the regulatory text to the final rule for “Air Quality State Implementation Plans; Arizona: Approval and Conditional Approval of State Implementation Plan Revisions; Maricopa County Air Quality Department; Stationary Source Permits” published April 5, 2019 (84 FR 13543), the EPA is correcting the error by setting out the newly revised Table 4 in paragraph (c), in its entirety, rather than the portion of Table 4 that was published.

List of Subjects in 40 CFR Part 52

Administrative practice and procedure, Environmental protection, Air pollution control, Carbon monoxide, Incorporation by reference, Intergovernmental relations, Lead, Nitrogen dioxide, Ozone, Particulate matter, Reporting and recordkeeping requirements, Sulfur dioxide, Volatile organic compounds.

Authority: 42 U.S.C. 7401 et seq.

Federal Register Correction

Effective May 6, 2019, in FR Doc. 2019-06384, published at 84 FR 13543 in the issue of April 5, 2019, on page 13548, in the third column, amendatory instruction 3 for § 52.120 is corrected to read as follows:

§ 52.120 [Corrected]

3. Section 52.120 is amended in paragraph (c) by revising Table 4 to read as follows:

§ 52.120 Identification of plan.

* * * * *

(c) * * *

Table 4—EPA-Approved Maricopa County Air Pollution Control Regulations
County citation | Title/subject | State effective date | EPA approval date | Additional explanation
Pre-July 1988 Rule Codification
Regulation I—General Provisions
Rule 2, No. 11 “Alteration or Modification” | Definitions | June 23, 1980 | June 18, 1982, 47 FR 26382 | Submitted on March 8, 1982. Revised on April 5, 2019, to remove the definition for No. 33 “Existing Source” which was superseded by Rule 100 submitted on May 18, 2016.
Rule 2, No. 27 “Dust” | Definitions | June 23, 1980 | April 12, 1982, 47 FR 15579 | Submitted on June 23, 1980. Revised on April 5, 2019. Removed 71 defined terms which were superseded by Rule 100 submitted on May 18, 2016.
Rule 2, No. 29 “Emission” | Definitions | June 23, 1980 | April 12, 1982, 47 FR 15579 | Submitted on June 23, 1980. Revised on April 5, 2019. Removed 71 defined terms which were superseded by Rule 100 submitted on May 18, 2016.
Rule 2, No. 34 “Existing Source Performance Standards” | Definitions | June 23, 1980 | April 12, 1982, 47 FR 15579 | Submitted on June 23, 1980. Revised on April 5, 2019. Removed 71 defined terms which were superseded by Rule 100 submitted on May 18, 2016.
Rule 2, No. 37 “Fly Ash” | Definitions | June 23, 1980 | April 12, 1982, 47 FR 15579 | Submitted on June 23, 1980. Revised on April 5, 2019. Removed 71 defined terms which were superseded by Rule 100 submitted on May 18, 2016.
Rule 2, No. 39 “Fuel” | Definitions | June 23, 1980 | April 12, 1982, 47 FR 15579 | Submitted on June 23, 1980. Revised on April 5, 2019. Removed 71 defined terms which were superseded by Rule 100 submitted on May 18, 2016.
Rule 2, No. 42 “Fume” | Definitions | June 23, 1980 | April 12, 1982, 47 FR 15579 | Submitted on June 23, 1980. Revised on April 5, 2019. Removed 71 defined terms which were superseded by Rule 100 submitted on May 18, 2016.
Rule 2, No. 55 “Motor Vehicle” | Definitions | June 23, 1980 | April 12, 1982, 47 FR 15579 | Submitted on June 23, 1980. Revised on April 5, 2019. Removed 71 defined terms which were superseded by Rule 100 submitted on May 18, 2016.
Rule 2, No. 59 “Non-Point Source” | Definitions | June 23, 1980 | April 12, 1982, 47 FR 15579 | Submitted on June 23, 1980. Revised on April 5, 2019. Removed 71 defined terms which were superseded by Rule 100 submitted on May 18, 2016.
Rule 2, No. 60 “Odors” | Definitions | June 23, 1980 | April 12, 1982, 47 FR 15579 | Submitted on June 23, 1980. Revised on April 5, 2019. Removed 71 defined terms which were superseded by Rule 100 submitted on May 18, 2016.
Rule 2, No. 64 “Organic Solvent” | Definitions | June 23, 1980 | April 12, 1982, 47 FR 15579 | Submitted on June 23, 1980. Revised on April 5, 2019. Removed 71 defined terms which were superseded by Rule 100 submitted on May 18, 2016.
Rule 2, No. 70 “Plume”, | Definitions | June 23, 1980 | April 12, 1982, 47 FR 15579 | Submitted on June 23, 1980. Revised on April 5, 2019. Removed 71 defined terms which were superseded by Rule 100 submitted on May 18, 2016.
Rule 2, No. 80 “Smoke”, | Definitions | June 23, 1980 | April 12, 1982, 47 FR 15579 | Submitted on June 23, 1980. Revised on April 5, 2019. Removed 71 defined terms which were superseded by Rule 100 submitted on May 18, 2016.
Rule 2, No. 91 “Vapor” | Definitions | June 23, 1980 | April 12, 1982, 47 FR 15579 | Submitted on June 23, 1980. Revised on April 5, 2019. Removed 71 defined terms which were superseded by Rule 100 submitted on May 18, 2016.
Regulation II—Permits
Rule 21, Section D.1 (AZ R9-3-101, Paragraph 52 “Dust”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 56 “Emission”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 63 “Existing Source Performance Standards”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 70 “Fuel”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 71 “Fuel Burning Equipment”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 74 “Fume”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 103 “Motor Vehicle”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 114 “Non-Point Source”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 122 “Photochemically Reactive Solvent”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 123 “Plume”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 128 “Process”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 129 “Process Source”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 150 “Smoke”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 152 “Soot”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 160 “Supplementary Control System (SCS)”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 166 “Vapor”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 167 “Vapor Pressure”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 21, Section D.1 (AZ R9-3-101, Paragraph 168 “Visible Emissions”) | Procedures for obtaining an installation permit | October 25, 1982 | August 10, 1988, 53 FR 30224; vacated; restored on January 29, 1991, 56 FR 3219 | Submitted on March 4, 1983. † Revised on April 5, 2019. Removed 152 defined terms which were superseded by Rule 100 submitted on May 18, 2016.
Rule 22 (paragraphs A, C, D, F, G, and H) | Permit Denial-Action-Transfer-Expiration-Posting-Revocation-Compliance | August 12, 1971 | July 27, 1972, 37 FR 15080 | Paragraphs B and E have been superseded.
Rule 27 | Performance tests | June 23, 1980 | April 12, 1982, 47 FR 15579 | Submitted on June 23, 1980.
Rule 28 | Permit Fees | March 8, 1982 | June 18, 1982, 47 FR 26382 | Submitted on March 8, 1982.
Regulation III—Control of Air Contaminants
Rule 32, Paragraph G | Other Industries | October 1, 1975 | April 12, 1982, 47 FR 15579 | Paragraph G of Rule 32 (“Odors and Gaseous Emissions”) is titled “Other Industries.” Submitted on June 23, 1980.
Rule 32, Paragraph H | Fuel Burning Equipment for Producing Electric Power (Sulfur Dioxide) | October 1, 1975 | April 12, 1982, 47 FR 15579 | Paragraph H of Rule 32 (“Odors and Gaseous Emissions”) is titled “Fuel Burning Equipment for Producing Electric Power (Sulfur Dioxide).” Submitted on June 23, 1980.
Rule 32, Paragraph J | Operating Requirements for an Asphalt Kettle | June 23, 1980 | April 12, 1982, 47 FR 15579 | Paragraph J of Rule 32 (“Odors and Gaseous Emissions”) is titled “Operating Requirements for an Asphalt Kettle.” Submitted on June 23, 1980.
Rule 32, Paragraph K | Emissions of Carbon Monoxide | June 23, 1980 | April 12, 1982, 47 FR 15579 | Paragraph K of Rule 32 (“Odors and Gaseous Emissions”) is titled “Emissions of Carbon Monoxide.” Submitted on June 23, 1980.
Rule 32 (Paragraphs A through F only) | Odors and Gaseous Emissions | August 12, 1971 | July 27, 1972, 37 FR 15080 | Paragraph G was superseded by approval of paragraph J of amended Rule 32. Submitted on May 26, 1972.
Rule 35 | Incinerators | August 12, 1971 | July 27, 1972, 37 FR 15080 | Superseded by approval of Maricopa Rule 313 published on September 25, 2014, except for Hospital/Medical/Infectious Waste Incinerators. Submitted on May 26, 1972.
Regulation IV—Production of Records; Monitoring; Testing and Sampling Facilities
Rule 41, paragraph A | Monitoring | August 12, 1971 | July 27, 1972, 37 FR 15080 | Submitted on May 26, 1972.
Rule 41, paragraph B | Monitoring | October 2, 1978 | April 12, 1982, 47 FR 15579 | Submitted on January 18, 1979.
Rule 42 | Testing and Sampling | August 12, 1971 | July 27, 1972, 37 FR 15080 | Submitted on May 26, 1972.
Regulation VII—Emergency Procedures
Rule 74, paragraph C | Public Notification | June 23, 1980 | April 12, 1982, 47 FR 15579 | Submitted on June 23, 1980. Paragraphs A, B, and D superseded by approval of Rule 510 published on November 9, 2009.
Regulation VIII—Validity and Operation
Rule 81 | Operation | August 12, 1971 | July 27, 1972, 37 FR 15080 | Submitted on May 26, 1972.
Post-July 1988 Rule Codification
Regulation I—General Provisions
Rule 100 (except Sections 200.24, 200.73, 200.104(c)) | General Provisions and Definitions | February 3, 2016 | April 5, 2019, (84 FR 13543) | Submitted on May 18, 2016.
Rule 140 | Excess Emissions | Revised September 5, 2001 | August 27, 2002, 67 FR 54957 | Submitted on February 22, 2002.
Regulation II—Permits and Fees
Rule 200 | Permit Requirements | February 3, 2016 | April 5, 2019, (84 FR 13543) | Submitted on May 18, 2016.
Rule 210 | Title V Permit Provisions | February 3, 2016 | April 5, 2019, (84 FR 13543) | Submitted on May 18, 2016.
Rule 220 | Non-Title V Permit Provisions | February 3, 2016 | April 5, 2019, (84 FR 13543) | Submitted on May 18, 2016.
Rule 240 (except Section 305) | Federal Major New Source Review (NSR) | February 3, 2016 | April 5, 2019, (84 FR 13543) | Submitted on May 18, 2016.
Rule 241 | Minor New Source Review (NSR) | February 3, 2016 | April 5, 2019, (84 FR 13543) | Submitted on November 25, 2016.
Rule 242 | Emissions Offsets Generated by the Voluntary Paving of Unpaved Roads | June 20, 2007 | August 6, 2007, 72 FR 43538 | Submitted on July 5, 2007.
Regulation III—Control of Air Contaminants
Rule 300 | Visible Emissions | March 12, 2008 | July 28, 2010, 75 FR 44141 | Submitted on July 10, 2008.
Rule 310 | Fugitive Dust From Dust-Generating Operations | January 27, 2010 | December 15, 2010, 75 FR 78167 | Submitted on April 12, 2010. Cites appendices C and F, which are listed separately in this table.
Rule 310.01 | Fugitive Dust From Non-Traditional Sources of Fugitive Dust | January 27, 2010 | December 15, 2010, 75 FR 78167 | Submitted on April 12, 2010. Cites appendix C, which is listed separately in this table.
Rule 311 | Particulate matter from process industries | August 2, 1993 | April 10, 1995, 60 FR 18010. Vacated by Ober decision. Restored August 4, 1997, 62 FR 41856 | Submitted on March 3, 1994.
Rule 312 | Abrasive Blasting | July 13, 1988 | January 4, 2001, 66 FR 730 | Submitted on January 4, 1990.
Rule 313 | Incinerators, Burn-Off Ovens and Crematories | May 9, 2012 | September 25, 2014, 79 FR 57445 | Submitted on August 27, 2012.
Rule 314 | Open Outdoor Fires and Indoor Fireplaces at Commercial and Institutional Establishments | March 12, 2008 | November 9, 2009, 74 FR 57612 | Submitted on July 10, 2008.
Rule 316 | Nonmetallic Mineral Processing | March 12, 2008 | November 13, 2009, 74 FR 58553 | Submitted on July 10, 2008.
Rule 318 | Approval of Residential Woodburning Devices | April 21, 1999 | November 8, 1999, 64 FR 60678 | Submitted on August 4, 1999.
Rule 322 | Power Plant Operations | October 17, 2007 | October 14, 2009, 74 FR 52693 | Submitted on January 9, 2008.
Rule 323 | Fuel Burning Equipment from Industrial/Commercial/Institutional (ICI) Sources | October 17, 2007 | October 14, 2009, 74 FR 52693 | Submitted on January 9, 2008.
Rule 324 | Stationary Internal Combustion (IC) Engines | October 17, 2007 | October 14, 2009, 74 FR 52693 | Submitted on January 9, 2008.
Rule 325 | Brick and Structural Clay Products (BSCP) Manufacturing | August 10, 2005 | August 21, 2007, 72 FR 46564 | Element of the Revised PM-10 State Implementation Plan for the Salt River Area, September 2005. Submitted on October 7, 2005.
Rule 331 | Solvent Cleaning | April 21, 2004 | December 21, 2004, 69 FR 76417 | Submitted on July 28, 2004.
Rule 333 | Petroleum Solvent Dry Cleaning | June 19, 1996 | February 9, 1998, 63 FR 6489 | Submitted on February 26, 1997.
Rule 334 | Rubber Sports Ball Manufacturing | June 19, 1996 | February 9, 1998, 63 FR 6489 | Submitted on February 26, 1997.
Rule 335 | Architectural Coatings | July 13, 1988 | January 6, 1992, 57 FR 354 | Submitted on January 4, 1990.
Rule 336 | Surface Coating Operations | April 7, 1999 | September 20, 1999, 64 FR 50759 | Submitted on August 4, 1999.
Rule 337 | Graphic Arts | November 20, 1996 | February 9, 1998, 63 FR 6489 | Submitted on March 4, 1997.
Rule 338 | Semiconductor Manufacturing | June 19, 1996 | February 9, 1998, 63 FR 6489 | Submitted on February 26, 1997.
Rule 339 | Vegetable Oil Extract Processes | November 16, 1992 | February 9, 1998, 63 FR 6489 | Submitted on February 4, 1993.
Rule 340 | Cutback and Emulsified Asphalt | September 21, 1992 | February 1, 1996, 61 FR 3578 | Submitted on November 13, 1992.
Rule 341 | Metal Casting | August 5, 1994 | February 12, 1996, 61 FR 5287 | Submitted on August 16, 1994.
Rule 342 | Coating Wood Furniture and Fixtures | November 20, 1996 | February 9, 1998, 63 FR 6489 | Submitted on March 4, 1997.
Rule 343 | Commercial Bread Bakeries | February 15, 1995 | March 17, 1997, 62 FR 12544 | Submitted on August 31, 1995.
Rule 344 | Automobile Windshield Washer Fluid | April 7, 1999 | November 30, 2001, 66 FR 59699 | Submitted on August 4, 1999.
Rule 346 | Coating Wood Millwork | November 20, 1996 | February 9, 1998, 63 FR 6489 | Submitted on March 4, 1997.
Rule 347 | Ferrous Sand Casting | March 4, 1998 | June 12, 2000, 65 FR 36788 | Submitted on August 4, 1999.
Rule 348 | Aerospace Manufacturing and Rework Operations | April 7, 1999 | September 20, 1999, 64 FR 50759 | Submitted on August 4, 1999.
Rule 349 | Pharmaceutical, Cosmetic, and Vitamin Manufacturing Operations | April 7, 1999 | June 8, 2001, 66 FR 30815 | Submitted on August 4, 1999.
Rule 350 | Storage of Organic Liquids at Bulk Plants and Terminals | April 6, 1992 | September 5, 1995, 60 FR 46024 | Submitted on June 29, 1992.
Rule 351 | Loading of Organic Liquids | February 15, 1995 | February 9, 1998, 63 FR 6489 | Submitted on August 31, 1995.
Rule 352 | Gasoline Delivery Vessels | November 16, 1992 | September 5, 1995, 60 FR 46024 | Submitted on February 4, 1993.
Rule 353 | Transfer of Gasoline into Stationary Dispensing Tanks | April 6, 1992 | February 1, 1996, 61 FR 3578 | Submitted on June 29, 1992.
Rule 358 | Polystyrene Foam Operations | April 20, 2005 | May 26, 2005, 70 FR 30370 | Submitted on April 25, 2005.
Regulation V—Air Quality Standards and Area Classification
Rule 510, excluding Appendix G to the Maricopa County Air Pollution Control Regulations | Air Quality Standards | November 1, 2006 | November 9, 2009, 74 FR 57612 | Submitted on June 7, 2007.
Regulation VI—Emergency Episodes
Rule 600 | Emergency Episodes | July 13, 1988 | March 18, 1999, 64 FR 13351 | Submitted on January 4, 1990.
Appendices to Maricopa County Air Pollution Control Rules and Regulations
Appendix C | Fugitive Dust Test Methods | March 26, 2008 | December 15, 2010, 75 FR 78167 | Cited in Rules 310 and 310.01. Submitted on July 10, 2008.
Appendix F | Soil Designations | April 7, 2004 | August 21, 2007, 72 FR 46564 | Cited in Rule 310. Submitted on October 7, 2005.
† Vacated by the U.S. Court of Appeals for the Ninth Circuit in Delaney v. EPA, 898 F.2d 687 (9th Cir. 1990). Restored by document published January 29, 1991.

* * * * *

Dated: April 18, 2019.
Deborah Jordan,
Acting Regional Administrator,
Region IX.

[FR Doc. 2019-08734 Filed 4-30-19; 8:45 am]

BILLING CODE 6560-50-P